DEPARTMENT OF ENERGY

Federal Energy Regulatory Commission

[Project No. 5944-024]

Moretown Hydroelectric, LLC; Notice Soliciting Scoping Comments and Extending Comment Period

Take notice that the following hydroelectric application has been filed with the Commission and is available for public inspection.

a. Type of Application: New Minor License.

b. Project No.: 5944-024.

c. Date filed: November 30, 2020.

d. Applicant: Moretown Hydroelectric, LLC.

e. Name of Project: Moretown No. 8 Project.

f. Location: On the Mad River, immediately downstream from the Town of Moretown, Washington County, Vermont. The project does not occupy federal land.

g. Filed Pursuant to: Federal Power Act, 16 U.S.C. 791 (a)-825(r).

h. Applicant Contact: Arion Thiboumery, Moretown Hydroelectric, LLC, 1273 Fowler Rd. Plainfield, VT 05667; (415) 260-6890 or email at arion@ar-ion.net.

i. FERC Contact: Maryam Zavareh at (202) 502-8474, or email at maryam.zavareh@ferc.gov.

j. Deadline for filing scoping comments: August 29, 2022. The commission is reissuing the notice and extending the comment due date. Due to a mailing error, not all recipients received the original notice.

The Commission strongly encourages electronic filing. Please file motions to intervene and protests using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Moretown Hydroelectric Project (P-5944-024).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The project consists of the following existing facilities: (1) a 333-foot-long, 31-foot-high concrete gravity dam with a 164-foot-long overflow spillway and a crest elevation of 524.7 feet; (2) a 36-acre impoundment with a normal maximum elevation of 524.7; (3) a 40-foot-long, 17-foot-wide, 28-foot-high concrete intake structure with a trashrack; (4) a 40-foot-long, 8.5-foot-diameter buried steel penstock; (5) a 39.4-foot-long, 19.7-foot-wide concrete powerhouse containing a single 1.25-megawatt Kaplan turbine-generator unit; (6) a tailrace; (7) a 106-foot-long, 12.5-kilovolt transmission line; and (8) appurtenant facilities. The Moretown Project is operated in a run-of-river mode with an average annual generation of 2,094 megawatt-hours.

Moretown hydroelectric LLC proposes to continue to operate the project in a run-of-river mode.

m. In addition to publishing the full text of this document in the Federal Register, the Commission provides all interested persons an opportunity to view and/or print the contents via the internet through the Commission's Home Page (http://www.ferc.gov) using the “eLibrary” link. Enter the docket number excluding the last three digits in the docket number field to access the document. For assistance, contact FERC at FERCOnlineSupport@ferc.gov or call toll-free, (866) 208-3676 or TYY, (202) 502-8659.

n. You may also register online at http://www.ferc.gov/docs-filing/esubscription.asp to be notified via email of new filings and issuances related to this or other pending projects. For assistance, contact FERC Online Support.

o. Scoping Process.

Commission staff will prepare either an environmental assessment (EA) or an Environmental Impact Statement (EIS) that describes and evaluates the probable effects of the licensee's proposed action and alternatives. The EA or EIS will consider both site-specific and cumulative environmental impacts and reasonable alternatives to the proposed action. The Commission's scoping process will help determine the required level of analysis and satisfy the National Environmental Policy Act (NEPA) scoping requirements, irrespective of whether the Commission prepares an EA or an EIS.

At this time, we do not anticipate holding on-site scoping meetings. Instead, we are soliciting written comments and suggestions on the preliminary list of issues and alternatives to be addressed in the NEPA document, as described in scoping document 1 (SD1), issued July 28, 2022.

Copies of the SD1 outlining the subject areas to be addressed in the NEPA document were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: July 28, 2022.
Kimberly D. Bose,
Secretary.

[FR Doc. 2022-16591 Filed 8-2-22; 8:45 am]

BILLING CODE 6717-01-P